ENVIRONMENTAL PROTECTION AGENCY

[EPA-HQ-OPP-2017-0751; FRL-9976-82]

Interim Registration Review Decisions and Case Closures for Several Pesticides; Notice of Availability

AGENCY: Environmental Protection Agency (EPA).

ACTION: Notice.

SUMMARY: This notice announces the availability of EPA's interim registration review decision for the following chemicals: BT corn coleopteran PIP, BT corn lepidopteran PIP, clodinafop-propargyl, cyprodinil, diethylene glycol monomethyl ether (DGME), dimethomorph, fomesafen, metalaxyl/mefenoxam, methoxyfenozide, mineral acids, nitrapyrin, noviflumuron, pendimethalin, potassium hypochlorite, sodium hypochlorite and calcium hypochlorite, and verbenone. It also announces the case closures for boll weevil attractant (Case 6044 and Docket ID Number: EPA-HQ-OPP-2009-0335) and octanoate esters (Case 6027 and Docket ID Number: EPA-HQ-OPP-2017-0087), because the last U.S. registrations for these pesticides have been canceled.

SUPPLEMENTARY INFORMATION:

I. General Information

A. Does this action apply to me?

This action is directed to the public in general, and may be of interest to a wide range of stakeholders including environmental, human health, farm worker, and agricultural advocates; the chemical industry; pesticide users; and members of the public interested in the sale, distribution, or use of pesticides. Since others also may be interested, the Agency has not attempted to describe all the specific entities that may be affected by this action. If you have any questions regarding the applicability of this action to a particular entity, consult the pesticide specific contact person listed under FOR FURTHER INFORMATION CONTACT.

For pesticide specific information, contact: The Chemical Review Manager for the pesticide of interest identified in the Table in Unit IV.

For general information on the registration review program, contact: Dana Friedman, Pesticide Re-Evaluation Division (7508P), Office of Pesticide Programs, Environmental Protection Agency, 1200 Pennsylvania Ave. NW, Washington, DC 20460-0001; telephone number: (703) 347-8827; email address: friedman.dana@epa.gov.

II. Background

Registration review is EPA's periodic review of pesticide registrations to ensure that each pesticide continues to satisfy the statutory standard for registration, that is, the pesticide can perform its intended function without unreasonable adverse effects on human health or the environment. As part of the registration review process, the Agency has completed interim decisions for all pesticides listed in the Table in Unit IV. Through this program, EPA is ensuring that each pesticide's registration is based on current scientific and other knowledge, including its effects on human health and the environment.

III. Authority

EPA is conducting its registration review of the chemicals listed in the Table in Unit IV pursuant to section 3(g) of the Federal Insecticide, Fungicide, and Rodenticide Act (FIFRA) and the Procedural Regulations for Registration Review at 40 CFR part 155, subpart C. Section 3(g) of FIFRA provides, among other things, that the registrations of pesticides are to be reviewed every 15 years. Under FIFRA, a pesticide product may be registered or remain registered only if it meets the statutory standard for registration given in FIFRA section 3(c)(5) (7 U.S.C. 136a(c)(5)). When used in accordance with widespread and commonly recognized practice, the pesticide product must perform its intended function without unreasonable adverse effects on the environment; that is, without any unreasonable risk to man or the environment, or a human dietary risk from residues that result from the use of a pesticide in or on food.

IV. What action is the Agency taking?

Pursuant to 40 CFR 155.58, this notice announces the availability of EPA's interim registration review decisions for the pesticides shown in the following table. The interim registration review decisions are supported by rationales included in the docket established for each chemical.

Table—Registration Review Interim Decisions Being Issued
Registration review case name and No. | Docket ID No. | Chemical review manager and contact information
BT Corn Coleopteran PIP Case 6502 | EPA-HQ-OPP-2015-0584 | Eric Bohnenblust, bohnenblust.eric@epa.gov, (703) 347-0426.
BT Corn Lepidopteran PIP Case 6501 | EPA-HQ-OPP-2015-0584 | Eric Bohnenblust, bohnenblust.eric@epa.gov, (703) 347-0426.
Clodinafop-propargyl Case 7250 | EPA-HQ-OPP-2012-0424 | Wilhelmena Livingston, livingston.wilhelmena@epa.gov, (703) 308-8025.
Cyprodinil Case 7025 | EPA-HQ-OPP-2011-1008 | Garland Waleko, waleko.garland@epa.gov, (703) 308-8049.
Diethylene Glycol Monomethyl Ether (DGME) Case 5010 | EPA-HQ-OPP-2010-0694 | Stephen Savage, savage.stephen@epa.gov, (703) 347-0345.
Dimethomorph Case 7021 | EPA-HQ-OPP-2013-0045 | Linsey Walsh, walsh.linsey@epa.gov, (703) 347-8030.
Fomesafen Case 7211 | EPA-HQ-OPP-2006-0239 | Leigh Rimmer, rimmer.leigh@epa.gov, (703) 347-0553.
Metalaxyl/Mefenoxam Case 0081 | EPA-HQ-OPP-2009-0863 | Leigh Rimmer, rimmer.leigh@epa.gov, (703) 347-0553.
Methoxyfenozide Case 7431 | EPA-HQ-OPP-2012-0663 | Mark Baldwin, baldwin.mark@epa.gov, (703) 308-0504.
Mineral Acids Case 4064 | EPA-HQ-OPP-2008-0766 | Rachel Ricciardi, ricciardi.rachel@epa.gov, (703) 347-0465.
Nitrapyrin Case 0213 | EPA-HQ-OPP-2012-0170 | Thomas Harty, harty.thomas@epa.gov, (703) 347-0338.
Noviflumuron Case 7434 | EPA-HQ-OPP-2014-0566 | Katherine St. Clair, stclair.katherine@epa.gov, (703) 347-8778.
Pendimethalin Case 0187 | EPA-HQ-OPP-2012-0219 | Julie Javier, javier.julie@epa.gov, (703) 347-0790.
Potassium Hypochlorite Case 5076 | EPA-HQ-OPP-2014-0157 | Jessica Bailey, bailey.jessica@epa.gov, (703) 347-0148.
Sodium Hypochlorite and Calcium Hypochlorite Case 0029 | EPA-HQ-OPP-2012-0004 | Jessica Bailey, bailey.jessica@epa.gov, (703) 347-0148.
Verbenone Case 6031 | EPA-HQ-OPP-2009-0511 | Chris Pfeifer, pfeifer.chris@epa.gov, (703) 308-0031.

The proposed interim registration review decisions for the chemicals in the table above were posted to the docket and the public was invited to submit any comments or new information. EPA addressed the comments or information received during the 60-day comment period for the proposed interim decisions in the discussion for each pesticide listed in the table. Comments from the 60-day comment period that were received may or may not have affected the Agency's interim decision. Pursuant to 40 CFR 155.58(c), the registration review case docket for the chemicals listed in the Table will remain open until all actions required in the interim decision have been completed.

This document also announces the closures of the registration review cases for boll weevil attractant (Case 6044 and Docket ID Number: EPA-HQ-OPP-2009-0335) and octanoate esters (Case 6027 and Docket ID Number: EPA-HQ-OPP-2017-0087), because the last U.S. registrations for these pesticides have been canceled. Background on the registration review program is provided at: http://www.epa.gov/pesticide-reevaluation.

Authority: 7 U.S.C. 136 et seq.

Dated: April 19, 2018.
Yu-Ting Guilaran,
Director, Pesticide Re-Evaluation Division, Office of Pesticide Programs.

[FR Doc. 2018-09203 Filed 4-30-18; 8:45 am]

BILLING CODE 6560-50-P